DEPARTMENT OF ENERGY

Office of Science; High Energy Physics Advisory Panel; Meeting

AGENCY: Department of Energy.

ACTION: Amendment to notice of open meeting.

On March 5, 2002, the Department of Energy published a notice of open meeting announcing a meeting of the High Energy Physics Advisory Panel 67 FR 9962. This notice announces information on how to gain access to the upcoming High Energy Physics Advisory Panel meeting that will be held April 26-27, 2002 at Fermi National Accelerator Laboratory.

Due to security requirements at Fermi National Accelerator Laboratory (FNAL), you must enter the Laboratory via the Pine Street entrance. Please visit their website at: http://www.fnal.gov—go to the visiting Fermi web link which will give directions along with maps of the area. If you wish to be added to the visitor list ahead of time, you must contact Mary Cullen of FNAL at 630-840-3211 no later than April 19, 2002. When arriving at the Laboratory via the Pine Street entrance, the guard will direct you to the Lederman Science Center to pickup your badge. If your name is not on the list, the guard will direct you go to the Lederman Science Center to sign in the appropriate forms and then they will set up a badge for you to attend the meeting.

Also, this meeting will be webcast for those who cannot attend. The address to logon to this meeting is: http://www-visualmedia.fnal.gov/real/HEPAP.htm.

Issued in Washington, DC March 28, 2002.
Rachel Samuel,
Deputy Committee Management Officer.

[FR Doc. 02-7922 Filed 4-1-02; 8:45 am]

BILLING CODE 6450-01-P